DEPARTMENT OF ENERGY

Federal Energy Regulatory Commission

[Project No. 6597-013]

Notice of Application Tendered for Filing with the Commission and Establishing Procedural Schedule for Licensing and Deadline for Submission of Final Amendments; Monadnock Paper Mills, Inc.

Take notice that the following hydroelectric application has been filed with the Commission and is available for public inspection.

a. Type of Application: New Major License.

b. Project No.: 6597-013.

c. Date Filed: July 31, 2012.

d. Applicant: Monadnock Paper Mills, Inc.

e. Name of Project: Monadnock Hydroelectric Project.

f. Location: The existing project is located on the Contoocook River in the towns of Peterborough, Greenfield, Hancock, and Bennington in Hillsborough County, New Hampshire. The project does not affect federal lands.

g. Filed Pursuant to: Federal Power Act, 16 U.S.C. 791(a)-825(r).

h. Applicant Contact: Michelle Hamm, Manager, Environmental Services, Monadnock Paper Mills, Inc.; Antrim Road, P.O. Box 339, Bennington, NH 03442; (603) 588-3311 or mhamm@mpm.com.

i. FERC Contact: Samantha Davidson, (202) 502-6839 or samantha.davidson@ferc.gov.

j. This application is not ready for environmental analysis at this time.

k. The Project Description:

The existing Monadnock Hydroelectric Project consists of four developments, three of which have generating facilities, with a combined installed capacity of 1,889 kilowatts (kW). The project produces an average annual generation of 6,100 megawatt-hours. All power generated by the Monadnock Project is used by Monadnock Paper Mill, Inc.'s (MPM) paper production facility. The four developments, from upstream to downstream, are described below.

Powder Mill Development

The existing Powder Mill Development is located at river mile 46.08 of the Contoocook River and consists of: (1) A 366-foot-long, 18.6-foot-high dam consisting of a gated 228-foot-long concrete gravity spillway with a crest elevation of 675.44 feet National Geodetic Vertical Datum of 1929 (NGVD) and 2-foot-high seasonal flashboards, an approximately 91-foot-long earth embankment with a concrete core wall on the north side of the spillway, and an approximately 47-foot-long earth embankment with a concrete core wall on the south side of the spillway; (2) a 4-foot-wide sluiceway on the north side of the spillway; (3) a 35-foot-long, 15-foot-wide regulating gatehouse structure with a 4-foot-diameter outlet pipe on the south side of the spillway; (4) a 435-acre impoundment with a storage capacity of 1,940 acre-feet and a normal maximum elevation of 677.44 feet NGVD; and (5) appurtenant facilities.

Monadnock Development

The existing Monadnock Development is located 4,200 feet downstream of Powder Mill Dam and consists of: (1) An approximately 515-foot-long, 22-foot-high dam consisting of a 165-foot-long concrete spillway with a crest elevation of 663.8 feet NGVD and 2-foot-high seasonal flashboards, a 75-foot-long earth embankment with a concrete core wall on the west side of the spillway, a 50-foot-long concrete non-overflow section, a 25-foot-long earth embankment with a concrete core wall, and a 200-foot-long earthen embankment on the east side of the spillway; (2) a 5-acre impoundment with a storage capacity of 240 acre-feet and a normal maximum elevation of 665.8 feet NGVD; (3) a 75-foot-long, 20-foot-wide powerhouse on the west side of the spillway containing two turbine-generating units for a total installed capacity of 423 kW; (4) two 20 to 25-foot-long, 2.3-kV generator leads; (5) a 100-foot-long tailrace; and (6) appurtenant facilities.

Pierce Development

The existing Pierce Development is located 900 feet downstream of the Monadnock Dam and consists of: (1) The 420-foot-long, 28-foot-high dam consisting of a 290-foot-long concrete spillway with a crest elevation of 651.4 feet NGVD and 2-foot-high seasonal flashboards; (2) a 7-acre impoundment with a storage capacity of 51-acre-feet and a normal maximum elevation of 653.4 feet NGVD; (3) a 25-foot-long, 35-foot-wide powerhouse on the east side of the spillway containing two turbine-generating units for a total installed capacity of 770 kW; (4) two 15 to 25-foot-long, 2.3-kV generator leads; (5) a 600-foot-long tailrace; and (6) appurtenant facilities.

Paper Mill Development

The existing Paper Mill Development is located 1,140 feet downstream of the Pierce Dam and consists of: (1) The 280-foot-long, 19-foot-high dam consisting of a 142-foot-long concrete gravity spillway with a crest elevation of 625.6 feet NGVD and 2-foot-high seasonal flashboards; (2) a 5-acre impoundment with a storage capacity of 25-acre-feet and a normal maximum elevation of 627.6 feet NGVD; (3) a 300-foot-long power canal and headgate structure leading to a forebay; (4) an intake structure and a 10-foot-diameter, 200-foot-long steel penstock; (5) a generating room located on the lower level of MPM's paper mill facility containing a 746-kW turbine generating unit; (6) a 150-foot-long, 2.3-kV generator lead; (7) a 800-foot-long tailrace; and (8) appurtenant facilities.

The project also consists of a 2,190-foot-long, 2.3-kV overhead transmission line interconnecting the generator leads to a 200-foot-long, 23-kV supply bus at MPM's paper mill facility.

The Powder Mill Development operates in a seasonal store and release mode to meet downstream demand for hydroelectric generation at MPM's paper mill facility and instream flow requirements, while the Monadnock, Pierce, and Paper Mill developments operate in a run-of-river mode. The existing license requires an instantaneous minimum flow of 13 cubic feet per second (cfs) (or inflow, whichever is less), in the Powder Mill, Monadnock, and Pierce tailraces; and an instantaneous minimum flow of 70 cfs (or the inflow, whichever is less), in the Paper Mill tailrace. MPM proposes to continue operating the project according to the existing minimum flow requirements and restrict the impoundment level at the Powder Mill Development to a maximum drawdown of 3 feet (between elevations 675.44 and 672.44 feet NGVD).

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis (when FERC approved studies are complete) | September 2012.
Filing of recommendations, preliminary terms and conditions, and fishway prescriptions | November 2012.
Commission issues Non-Draft EA | March 2013.
Comments on EA | April 2013.
Modified terms and conditions | June 2013.

o. Final amendments to the application must be filed with the Commission no later than 30 days from the issuance date of the notice of ready for environmental analysis.

Dated: August 14, 2012.
Kimberly D. Bose,
Secretary.

[FR Doc. 2012-20424 Filed 8-20-12; 8:45 am]

BILLING CODE 6717-01-P